DEPARTMENT OF ENERGY

Federal Energy Regulatory Commission

[Docket No. RP00-205-004]

PG&E Gas Transmission, Northwest Corporation; Notice of Tariff Filing

September 7, 2000.

Take notice that on August 30, 2000, PG&E Gas Transmission, Northwest Corporation (PG&E GTN) tendered for filing as part of its FERC Gas Tariff, First Revised Volume No. 1-A, the following tariff sheets, with an effective date of September 1, 2000:

Second Revised Sheet No. 81.01a

Fourth Revised Sheet No. 121

Third Revised Sheet No. 122

Fifth Revised Sheet No. 127

Third Revised Sheet No. 153

Third Revised Sheet No. 168

PG&E GTN states that these sheets were filed with the Commission on March 1, 2000, and accepted and suspended by the Commission for 5 months by order of March 31, 2000 (90 FERC ¶ 61,349 (2000).

PG&E GTN further states that a copy of this filing has been served on the parties to this proceeding as well as PG&E GTN's jurisdictional customers and interested state regulatory agencies.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www/ferc/fed/us/online/rims.htm (call 202-208-2222 for assistance).

David P. Boergers,
Secretary.

[FR Doc. 00-23446 Filed 9-12-00; 8:45 am]

BILLING CODE 6717-01-M